FEDERAL COMMUNICATIONS COMMISSION

Public Information Collections Approved by Office of Management and Budget

October 11, 2002.

The Federal Communications Commission (FCC) has received Office of Management and Budget (OMB) approval for the following public information collections pursuant to the Paperwork Reduction Act of 1995, Pub. L. 104-13. An agency may not conduct or sponsor and a person is not required to respond to a collection of information unless it displays a currently valid control number. For further information contact A. Marie Moyd, Federal Communications Commission, (202) 418-2111.

Federal Communications Commission

OMB Control No.: 3060-0997.

Expiration Date: 05/31/2005.

Title: 47 CFR section 52.15(k), Numbering Utilization and Compliance Audit Program.

Form No.: N/A.

Respondents: Business or other for-profit.

Estimated Annual Burden: 25 respondents; 33 per response (avg.); 825 total annual burden hours (for all collections under this control number).

Estimated Annual Reporting and Recordkeeping Cost Burden: $0.

Frequency of Response: On occasion; Third Party Disclosure.

Description

The state of the nation's numbering resources has a direct effect on the growth of competition in the telecommunications industry. The nation's numbering resources are depleting rapidly. Under the Communications Act of 1934, as amended by the Telecommunications Act of 1996, Congress granted the Federal Communications Commission (Commission) exclusive jurisdiction over the United States' portion of the North American Numbering Plan (NANP). See 47 U.S.C. 251(e). The purpose of the audits is to monitor telecommunications carriers' compliance with Commission's numbering rules and to verify the accuracy and validity of the numbering data submitted to the Commission. The audits will also allow the Commission to identify inefficiencies in the manner in which carriers use numbers, including excessive use of certain categories of numbers (e.g., administrative, aging, or intermediate numbers). By ensuring compliance with Commission rules that promote efficient number usage, the numbering audits will help preserve the nation's numbering resources.

The Commission staff developed a standardized audit program for conducting random audits. This standard audit program consists of audit procedures, an internal controls questionnaire, and a corresponding data request. The independent auditor would conduct audits using these tools. The audit procedures generally require the audited carrier to respond to requests for information from the independent auditor. The internal controls questionnaire and the data request require audited carriers to respond to specific requests for information during the audit. The independent auditor will report its audit findings to the Commission. The Commission staff will review and modify the audit program on an on-going basis. The Commission will use the audit results to determine whether the audited carriers are complying with the Commission's rules, and whether the audited carriers' numbering data submitted to the Commission, e.g., FCC Form 502, is accurate and valid. To the extent that the Commission finds evidence of potential violations, possible enforcement action may be taken. See Second Report and Order, 16 FCC Rcd at 349, para. 96; see also 47 CFR 52.15(k). Obligation to respond: Mandatory. Public reporting burden for the collections of information are as noted above. Send comments regarding the burden estimates or any other aspect of the collections of information, including suggestions for reducing the burden to Performance Evaluation and Records Management, Washington, DC 20554.

Federal Communications Commission.
Marlene Dortch,
Secretary.

[FR Doc. 02-26926 Filed 10-22-02; 8:45 am]

BILLING CODE 6712-01-P